DEPARTMENT OF HEALTH AND HUMAN SERVICES

Centers for Disease Control and Prevention

[Docket Number NIOSH-187]

Proposed Enhancements to Occupational Health Surveillance Data Collection Through the Healthcare Personnel Safety (HPS) Component of the National Healthcare Safety Network (NHSN)

AGENCY: National Institute for Occupational Safety and Health (NIOSH) of the Centers for Disease Control and Prevention (CDC), Department of Health and Human Services (HHS).

ACTION: Notice of public meeting and availability for public comment.

SUMMARY: The National Institute for Occupational Safety and Health (NIOSH) of the Centers for Disease Control and Prevention (CDC) announces the following meeting and request for public comment on proposed enhancements to occupational health surveillance data collection through the Healthcare Personnel Safety (HPS) Component of the National Healthcare Safety Network (NHSN).

Public Comment Period: Comments must be received by October 21, 2009.

Public Meeting Date and Time: November 16, 2009, 1 p.m.-5 p.m. and November 17, 2009, 8 a.m.-5 p.m.

Place: Sheraton Cincinnati Airport Hotel, 2826 Terminal Drive, Hebron, Kentucky 41048, (859) 371-6166.

Purpose of Meeting: To obtain public comment on the content and conduct of enhancements to occupational health surveillance data collection through the Healthcare Personnel Safety (HPS) Component of the National Healthcare Safety Network (NHSN). Special emphasis will be placed on discussion of the content of the data collection forms.

Status: The forum will include scientists and representatives from industry, labor, and other stakeholders, and is open to the public. Attendance is limited only by the space available. The meeting room will accommodate approximately 60 people. Interested parties should contact Ahmed Gomaa at agomaa@cdc.gov or (513) 841-4337, or Sara Luckhaupt at sluckhaupt@cdc.gov or (513) 841-4123 for information about how to register for the meeting.

ADDRESSES: Oral comments given at the meeting will be recorded and included in the NIOSH-187 docket. You may submit comments, identified by docket number NIOSH-187, by any of the following methods:

• Mail: NIOSH Docket Office, Robert A. Taft Laboratories, MS-C34, 4676 Columbia Parkway, Cincinnati, OH 45226.

• Facsimile: (513) 533-8285.

• E-mail: nioshdocket@cdc.gov.

All information received in response to this notice will be available for public examination and copying at the NIOSH Docket Office, 4676 Columbia Parkway, Cincinnati, Ohio 45226. A complete electronic docket containing all comments submitted will be available on the NIOSH Web page at http://www.cdc.gov/niosh/docket, and comments will be available in writing by request. NIOSH includes all comments received without change in the docket, including any personal information provided.

Background: The NHSN is an Internet-based surveillance system established in 2005 by the CDC Division of Healthcare Quality Promotion (DHQP) that includes both patient safety and healthcare personnel health and safety modules. The proposed enhancement to the NHSN will electronically link and integrate a wide variety of ongoing occupational health surveillance activities and facilitate more accurate and timely prevention strategies, while meeting necessary confidentiality and security requirements.

This project focuses on surveillance and prevention of four occupational health outcomes among healthcare workers: (1) Traumatic injuries in the workplace (specifically: (a) musculoskeletal disorders due to patient handling and working in awkward postures, (b) slips, trips, and falls, and (c) workplace violence); (2) dermatitis due to workplace exposures; (3) work-related asthma; and (4) airborne transmission of tuberculosis in the workplace. Once these enhancements to NHSN are successfully implemented, additional occupational health metrics can be added to the system to address emerging problems such as pandemic influenza.

The success of this project will depend on the participation of healthcare facilities in the surveillance system. Because the stakeholders themselves will be the central users of our proposed additions to NHSN, they will be extensively involved in every stage of this project—including initial development, implementation, and evaluation of the new module and event forms. This meeting will provide an opportunity for stakeholders to contribute to the initial development of the data collection forms.

FOR FURTHER INFORMATION CONTACT: Ahmed Gomaa, Robert A. Taft Laboratories, MS-R17, 4676 Columbia Parkway, Cincinnati, OH 45226, telephone (513) 841-4337, or Sara Luckhaupt, same address, telephone (513) 841-4123.

References: National Healthcare Safety Network (NHSN)— http://www.cdc.gov/nhsn/index.html.

Healthcare Personnel Safety Component— http://www.cdc.gov/nhsn/hps.html.

Dated: September 14, 2009.
Tanja Popovic,
Chief Science Officer, Centers for Disease Control and Prevention.

[FR Doc. E9-22656 Filed 9-18-09; 8:45 am]

BILLING CODE 4163-19-P